DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification of Eligibility To Apply for Trade Adjustment Assistance
[9/21/2011 through 11/18/2011]
Firm name | Address | Date accepted for investigation | Products
Acme Express, Inc. | 3821 Prospect Avenue, Cleveland, OH 44115 | 16-Nov-11 | The firm manufactures scheduling software on recorded optical media, such as CDs and DVDs.
Aspen Graphics, Inc. | 4795 Oakland Street, Denver, CO 80239 | 11-Oct-11 | The firm manufactures commercial printed products including brochures, leaflets, and manuals.
FELCO, LLC dba FELCO Industries | P.O. Box 16750, Missoula, MT 59808 | 16-Nov-11 | The firm manufactures attachments for excavators and backfill equipment and other attachments and parts for heavy equipment.
Modular Sound System, Inc | 22272 Pepper Road, Barrington, IL 60010 | 15-Nov-11 | The firm manufactures loud speakers and components.
Possperity, Inc. dba Shapes Supply, Inc | 320 W. Northwest Hwy., Arlington Heights, IL 60004 | 17-Nov-11 | The firm manufactures bathroom shower doors, walls, mountings and surrounds, and also distributes, installs and resells kitchen and bathroom cabinets, sinks, vanity tops and plumbing fixtures.
Quantum Windows & Doors, Inc | 2720 34th Street, Everett, WA 98201 | 17-Nov-11 | The firm manufactures wood windows and doors.
Trans-Tech, LLC | 1600 Grider Avenue, El Reno, OK 73036 | 07-Oct-11 | The firm manufactures transfers and decals used in railroad industry.
Troscan, LLC | 400 North Oakley Boulevard, Chicago, IL 60612 | 14-Nov-11 | The firm designs and manufactures residential and commercial furniture in wood, metal, stone and upholstery.
Verne Q. Powell Flutes, Inc | 1 Clock Tower Place, Suite 300, Maynard, MA 01754 | 24-Oct-11 | The firm manufactures intermediate and student musical instruments such as flutes, piccolos, trumpets, trombones, flugelhorns and baritones.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

November 21, 2011.
Miriam Kearse,
Eligibility Certifier.

[FR Doc. 2011-30488 Filed 11-25-11; 8:45 am]

BILLING CODE 3510-24-P